DEPARTMENT OF THE INTERIOR

National Park Service

[NPS-WASO-NAGPRA-NPS0028570; PPWOCRADN0-PCU00RP14.R50000]

Notice of Inventory Completion: U.S. Department of the Interior, National Park Service, Natchez Trace Parkway, Tupelo, MS

AGENCY: National Park Service, Interior.

ACTION: Notice.

SUMMARY: The U.S. Department of the Interior, National Park Service, Natchez Trace Parkway has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to Natchez Trace Parkway. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to Natchez Trace Parkway at the address in this notice by September 16, 2019.

ADDRESSES: Mary Risser, Superintendent, Natchez Trace Parkway, 2680 Natchez Trace Parkway, Tupelo, MS 38804, telephone (662) 680-4005, email mary_risser@nps.gov.

SUPPLEMENTARY INFORMATION: Notice is here given in accordance with the Native American Graves Protection and Repatriation Act (NAGPRA), 25 U.S.C. 3003, of the completion of an inventory of human remains and associated funerary objects under the control of the U.S. Department of the Interior, National Park Service, Natchez Trace Parkway, Tupelo, MS. The human remains and associated funerary objects were removed from sites in Chickasaw and Lee Counties, MS.

This notice is published as part of the National Park Service's administrative responsibilities under NAGPRA, 25 U.S.C. 3003(d)(3) and 43 CFR 10.11(d). The determinations in this notice are the sole responsibility of the Superintendent, Natchez Trace Parkway.

Consultation

A detailed assessment of the human remains was made by Natchez Trace Parkway professional staff in consultation with representatives of the Cherokee Nation, The Chickasaw Nation, The Seminole Nation of Oklahoma, and the United Keetoowah Band of Cherokee Indians in Oklahoma.

History and Description of the Remains

At an unknown date, human remains representing, at minimum, 15 individuals were removed from the Rich Toy Factory site in Lee County, MS. The remains were found in 1984 in boxes in the abandoned warehouse. It is likely that looters removed them from a mound on the factory property. While it's unclear how the remains came to be in the possession of Natchez Trace Parkway, it appears likely that the staff historian of Natchez Trace Parkway received them from the owners of the warehouse. No known individuals were identified. No associated funerary objects are present.

In 1947 and 1948, human remains representing, at minimum, 16 individuals were removed from the Bynum Mounds site in Chickasaw County, MS, during archeological investigations by the National Park Service. No known individuals were identified. The four associated funerary objects are four hammered copper spools.

Determinations Made by Natchez Trace Parkway

Officials of Natchez Trace Parkway have determined that:

• Pursuant to 25 U.S.C. 3001(9), the human remains described in this notice are Native American based on removal from known Native American sites.

• Pursuant to 25 U.S.C. 3001(9), the human remains described in this notice represent the physical remains of 31 individuals of Native American ancestry.

• Pursuant to 25 U.S.C. 3001(3)(A), the four objects described in this notice are reasonably believed to have been placed with or near individual human remains at the time of death or later as part of the death rite or ceremony. The National Park Service intends to convey the associated funerary objects to the tribes pursuant to 54 U.S.C. 102503(g) through (i) and 54 U.S.C. 102504.

• Pursuant to 25 U.S.C. 3001(2), a relationship of shared group identity cannot be reasonably traced between the Native American human remains and associated funerary objects and any present-day Indian Tribe.

• Treaties, Acts of Congress, or Executive Orders, indicate that the land from which the Native American human remains and associated funerary objects were removed is the aboriginal land of The Chickasaw Nation.

• Pursuant to 43 CFR 10.11(c)(1), the disposition of the human remains and associated funerary objects may be to The Chickasaw Nation.

Additional Requestors and Disposition

Representatives of any Indian Tribe or Native Hawaiian organization not identified in this notice that wish to request transfer of control of these human remains and associated funerary objects should submit a written request with information in support of the request to Mary Risser, Superintendent, Natchez Trace Parkway, 2680 Natchez Trace Parkway, Tupelo, MS 38804, telephone (662) 680-4005, email mary_risser@nps.gov, by September 16, 2019. After that date, if no additional requestors have come forward, transfer of control of the human remains and associated funerary objects to The Chickasaw Nation may proceed.

Natchez Trace Parkway is responsible for notifying the Cherokee Nation, The Chickasaw Nation, The Seminole Nation of Oklahoma, and the United Keetoowah Band of Cherokee Indians in Oklahoma that this notice has been published.

Dated: July 25, 2019.
Melanie O'Brien,
Manager, National NAGPRA Program.

[FR Doc. 2019-17552 Filed 8-14-19; 8:45 am]

BILLING CODE P